DEPARTMENT OF ENERGY

Federal Energy Regulatory Commission

[Docket No. ER00-1858-002, et al.]

New Hampshire Electric Cooperative, Inc., et al.; Electric Rate and Corporate Filings

May 2, 2003.

The following filings have been made with the Commission. The filings are listed in ascending order within each docket classification.

1. New Hampshire Electric Cooperative, Inc.

[Docket No. ER00-1858-002]

Take notice that on April 30, 2003, New Hampshire Electric Cooperative, Inc. tendered for filing an updated market analysis and report of changes in status in compliance with the Commission's Order, issued April 25, 2000, in New Hampshire Electric Cooperative, Inc., 91 FERC § 61,073.

New Hampshire Electric Cooperative, Inc., states that copies of this filing have been served to all parties in Docket No. ER00-1858-000.

Comment Date: May 21, 2003.

2. Midwest Independent Transmission System Operator, Inc.

[Docket No. ER03-265-002]

Take notice that on April 29, 2003, Midwest Independent Transmission System Operator, Inc., submitted a compliance filing in accordance with the Federal Energy Regulatory Commission's Order issued January 29, 2003, in Docket No. ER03-265-000 regarding refunds made on March 28, 2003, to certain Transmission Customers.

Comment Date: May 20, 2003.

3. Northern Indiana Public Service Company

[Docket No. ER03-640-001]

Take notice that on April 30, 2003, Northern Indiana Public Service Company (Northern Indiana) filed a Power Service Agreement with the Town of Argos, Indiana (Argos). Northern Indiana has requested an effective date of March 1, 2003.

Northern Indiana states that copies of this filing have been sent to Argos, the Indiana Utility Regulatory Commission, and the Indiana Office of Utility Consumer Counselor.

Comment Date: May 21, 2003.

4. Northern Indiana Public Service Company

[Docket No. ER03-786-000]

Take notice that on April 30, 2003, Northern Indiana Public Service Company (Northern Indiana) filed a Service Agreement pursuant to its Wholesale Market-Based Rate Tariff with Split Rock Energy, L.L.C. (Split Rock). Northern Indiana has requested an effective date of April 30, 2003.

Northern Indiana states that copies of this filing have been sent to Split Rock, the Indiana Utility Regulatory Commission, and the Indiana Office of Utility Consumer Counselor.

Comment Date: May 21, 2003.

5. Midwest Independent Transmission System Operator, Inc.

[Docket No. ER03-787-000]

Take notice that on April 23, 2003, the Midwest Independent Transmission System Operator, Inc. (Midwest ISO) pursuant to section 205 of the Federal Power Act and section 35.12 of the Commission's regulations, submitted for filing an unexecuted Interconnection and Operating Agreement among Interstate Power and Light Company, a wholly owned subsidiary of Alliant Energy Corporation and Flying Cloud Power Partners, LLC.

Midwest ISO states that a copy of this filing was sent to Interstate Power and Light Company and Flying Cloud Power Partners, LLC.

Comment Date: May 21, 2003.

6. Midwest Independent Transmission System Operator, Inc.

[Docket No. ER03-788-000]

Take notice that on April 30, 2003, the Midwest Independent Transmission System Operator, Inc. (Midwest ISO) pursuant to section 205 of the Federal Power Act and section 35.12 of the Commission's regulations, submitted for filing an Interconnection Agreement among Cinergy Services, Inc. and The City of Hamilton, Ohio.

Midwest ISO states that a copy of this filing was sent to Cinergy Services, Inc. and The City of Hamilton, Ohio.

Comment Date: May 21, 2003.

7. Tampa Electric Company

[Docket No. ER03-789-000]

Take notice that on April 30, 2003, Tampa Electric Company (Tampa Electric) tendered for filing revised rate schedule sheets containing updated rates for emergency interchange service and scheduled/short-term firm interchange service under its interchange contracts with each of 17 other utilities. Tampa Electric indicates that it also tendered for filing revised sheets for inclusion in its open access transmission tariff (OATT) that contain an updated system average transmission loss percentage.

Tampa Electric requests that the revised rate schedule and tariff sheets be made effective on May 1, 2003, and therefore requests waiver of the Commission's notice requirement.

Tampa Electric states that a copy of the filing has been served upon each of the parties to the affected interchange contracts and each customer under its OATT, as well as the Florida and Georgia Public Service Commissions.

Comment Date: May 21, 2003.

8. Tampa Electric Company

[Docket No. ER03-790-000]

Take notice that on April 30, 2003, Tampa Electric Company (Tampa Electric) tendered for filing revised rate schedule sheets containing updated transmission service rates under its agreements to provide qualifying facility transmission service for Cargill Fertilizer, Inc. (Cargill) and Auburndale Power Partners, Limited Partnership (Auburndale).

Tampa Electric proposes that the revised sheets containing the updated transmission service rates be made effective on May 1, 2003, and therefore requests waiver of the Commission's notice requirement. Tampa Electric states that copies of the filing have been served on Cargill, Auburndale, and the Florida Public Service Commission.

Comment Date: May 21, 2003.

9. California Power Exchange Corporation

[Docket No. ER03-791-000]

Take notice that on April 30, 2003, the California Power Exchange Corporation (CalPX) tendered for filing its Rate Schedule for the period July 1, 2003 through December 31, 2003. CalPX states that it files this Rate Schedule pursuant to the Commission's Orders of August 8, 2002 (100 FERC § 61,178), in Docket No. ER02-2234-000, and April 1, 2003 (103 FERC § 61,001) issued in Docket Nos. EC03-20-000 and EC03-20-001, which require CalPX to make a new rate filing every six months to recover current expenses. CalPX indicates that the Rate Schedule covers expenses projected for the period July 1 through December 31, 2003, and CalPX requests an effective date of July 1, 2003.

CalPX states that it has served copies of the filing on its participants, on the California ISO, and on the California Public Utilities Commission.

Comment Date: May 21, 2003.

10. Tampa Electric Company

[Docket No. ER03-792-000]

Take notice that on April 30, 2003, Tampa Electric Company (Tampa Electric) tendered for filing revised rate schedule sheets containing updated caps on energy charges for emergency assistance service under its interchange service contract with Alabama Power Company, Georgia Power Company, Gulf Power Company, Mississippi Power Company, and Savannah Electric and Power Company, as represented by agent Southern Company Services, Inc., (collectively, Southern Companies).

Tampa Electric requests that the revised rate schedule sheets be made effective on May 1, 2003, and therefore requests waiver of the Commission's notice requirement. Tampa Electric states that a copy of the filing has been served upon Southern Companies and the Florida and Public Service Commissions.

Comment Date: May 21, 2003.

11. New England Power Company

[Docket No. ER03-793-000]

Take notice that on April 30, 2003, New England Power Company (NEP) submitted for filing a revised service agreement between NEP and AES Londonderry, L.L.C. (AES) for firm local generation delivery service under NEP's FERC Electric Tariff, Second Revised Volume No. 9, First Revised Service Agreement No. 204.

NEP states that copies of the filing were served upon AES and the New Hampshire Public Utilities Commission.

Comment Date: May 21, 2003.

12. Duke Energy Fayette, LLC

[Docket No. ER03-794-000]

Take notice that on April 30, 2003, Duke Energy Fayette, LLC (Duke Fayette) tendered for filing its proposed tariff and supporting cost data for its Monthly Revenue Requirement (Fayette Tariff) under PJM Interconnection, L.L.C.'s (PJM) Schedule 2—Reactive Supply and Voltage Control from Generation Sources Service. Duke Fayette requests an effective date of the first day of the month immediately following the Commission's acceptance of this filing to correspond to PJM's billing cycle.

Duke Fayette states that it has served copies of the filing on the Pennsylvania Public Utilities Commission, PJM and Allegheny Power.

Comment Date: May 21, 2003.

13. Southern California Edison Company

[Docket No. ER03-795-000]

Take notice that on April 30, 2003, Southern California Edison Company (SCE) tendered for filing revised rate sheets (Revised Sheets) to the Agreement For Interconnection Service and the Interconnection Facilities Agreement between SCE and Harbor Cogeneration Company (Harbor), Service Agreement Nos. 2 and 9 under SCE's FERC Electric Tariff, First Revised Volume No. 6. SCE respectfully requests an effective date of April 30, 2003.

SCE states that the Revised Sheets to these agreements reflect an extension of their terms and conditions to provide interconnection service to Harbor's 110 MW generating facility through June 30, 2003. SCE also states that copies of this filing were served upon the Public Utilities Commission of the State of California and Harbor.

Comment Date: May 21, 2003.

14. Katahdin Paper Company LLC

[Docket No. ER03-796-000]

Take notice that on April 30, 2003, Katahdin Paper Company LLC (Katahdin) submitted for filing, pursuant to section 205 of the Federal Power Act, and part 35 of the Commission's regulations, an application for market-based rate authorization to sell energy, capacity and specified ancillary services, waivers and exemption. Katahdin requests an effective date of May 30, 2003, for its market-based rate authorization.

Comment Date: May 21, 2003.

15. Ohio Edison Company

[Docket No. ER03-797-000]

Take notice that on April 30, 2003, FirstEnergy Service Company, on behalf of Ohio Edison Company, tendered for filing a Notice of Cancellation of Ohio Edison Company Rate Schedule FPC No. 67, a June 20, 1968, resale agreement with Ohio Power Company that was originally filed with the Commission on June 24, 1968. FirstEnergy requests an effective date of June 30, 2003.

Ohio Edison Company states that a copy of this filing has been served on Ohio Power Company, the counterparty to the agreement, and the Public Utilities Commission of Ohio.

Comment Date: May 21, 2003.

16. The Toledo Edison Company

[Docket No. ER03-798-000]

Take notice that on April 30, 2003, FirstEnergy Service Company on behalf of The Toledo Edison Company filed a Notice of Cancellation for The Toledo Edison Company Rate Schedule FPC No. 2, a January 1, 1968, Power Delivery Agreement with Buckeye Power, Inc. (Buckeye), which was originally accepted in FPC Docket No. E-7355. FirstEnergy requests an effective date of June 30, 2003.

The Toledo Edison Company states that a copy of this filing has been served on Buckeye, American Electric Power Service Corporation, on behalf of Ohio Power Company and Columbus Southern Power Company, The Cincinnati Gas & Electric Company, Dayton Power & Light Company, Monongahela Power Company, the counterparties to the agreement, and the Public Utilities Commission of Ohio.

Comment Date: May 21, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-11931 Filed 5-12-03; 8:45 am]

BILLING CODE 6717-01-P